DEPARTMENT OF COMMERCE

National Oceanic and Atmospheric Administration

RIN 0648-XE944

South Atlantic Fishery Management Council; Public Hearing

AGENCY: National Marine Fisheries Service (NMFS), National Oceanic and Atmospheric Administration (NOAA), Commerce.

ACTION: Notice of a public hearing.

SUMMARY: The South Atlantic Fishery Management Council (Council) will hold a public hearing via webinar pertaining to Amendment 30 to the Coastal Migratory Fishery Management Plan (FMP) for the Gulf of Mexico and Atlantic Region. The amendment addresses alternatives for changing the recreational fishing year for Atlantic cobia (Georgia through New York).

DATES: The public hearing will be held via webinar on Tuesday, October 25, 2016.

ADDRESSES: Council address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The public hearing will be conducted via webinar accessible via the internet from the Council's Web site at www.safmc.net. The hearing will begin at 6 p.m. Registration for the webinar is required. Registration information will be posted on the Council's Web site at www.safmc.net as it becomes available. Any graphics, including maps, drawings or images to be shown during public comment should be emailed to Mike Collins at mike.collins@safmc.net prior to the public hearing.

Amendment 30 to the Coastal Migratory Pelagic FMP

This amendment includes one action to modify the recreational fishing year for Atlantic cobia. In combination with the proposed changes to slow the rate of recreational harvest in Framework Amendment 4, the action in Amendment 30 is expected to reduce the likelihood of exceeding the annual catch limit and triggering accountability measures before the most popular time to recreationally fish for Atlantic cobia (May through September), and also to provide fair access to the Atlantic cobia resource for all participants.

During the webinar, Council staff will present an overview of the amendment and will be available for informal discussions and to answer questions via webinar. Members of the public will have an opportunity to go on record to record their comments for consideration by the Council.

Special Accommodations

The hearing is physically accessible to people with disabilities. Requests for auxiliary aids should be directed to the Council office (see ADDRESSES) 3 days prior to the hearing.

Note: The times and sequence specified in this agenda are subject to change.

Authority: 16 U.S.C. 1801 et seq.

Dated: October 5, 2016.
Tracey L. Thompson,
Acting Deputy Director, Office of Sustainable Fisheries, National Marine Fisheries Service.

[FR Doc. 2016-24453 Filed 10-7-16; 8:45 am]

BILLING CODE 3510-22-P